DEPARTMENT OF ENERGY

Federal Energy Regulatory Commission

Combined Notice of Filings #1

Take notice that the Commission received the following electric corporate filings:

Docket Numbers: EC18-122-000.

Applicants: GridLiance High Plains LLC.

Description: Application for Authorization to Acquire Transmission Facilities Pursuant to Section 203 of the FPA and Request for Expedited Action and Certain Waivers of GridLiance High Plains LLC.

Filed Date: 7/13/18.

Accession Number: 20180713-5202.

Comments Due: 5 p.m. ET 8/3/18.

Take notice that the Commission received the following electric rate filings:

Docket Numbers: ER12-164-019.

Applicants: Bishop Hill Energy III LLC.

Description: Notification of Change in Facts under Market-Based Rate Authority of Bishop Hill Energy III LLC.

Filed Date: 7/16/18.

Accession Number: 20180716-5063.

Comments Due: 5 p.m. ET 8/6/18.

Docket Numbers: ER17-1414-001.

Applicants: Midcontinent Independent System Operator, Inc.

Description: Midcontinent Independent System Operator, Inc. submits tariff filing per 35.19a(b): Refund Report to be effective N/A.

Filed Date: 7/16/18.

Accession Number: 20180716-5052.

Comments Due: 5 p.m. ET 8/6/18.

Docket Numbers: ER18-836-001.

Applicants: Energia Sierra Juarez 2 U.S., LLC.

Description: Compliance filing: Energia Sierra Juarez 2 U.S., LLC Compliance Filing to be effective 7/16/2018.

Filed Date: 7/16/18.

Accession Number: 20180716-5105.

Comments Due: 5 p.m. ET 8/6/18.

Docket Numbers: ER18-1344-001.

Applicants: California Independent System Operator Corporation.

Description: Compliance filing: 2018-07-16 Congestion Revenue Rights Auction Efficiency Track 1A Compliance to be effective 7/1/2018.

Filed Date: 7/16/18.

Accession Number: 20180716-5112.

Comments Due: 5 p.m. ET 8/6/18.

Docket Numbers: ER18-1915-001.

Applicants: Bowfin KeyCon Energy, LLC.

Description: Tariff Amendment: Bowfin Energy FERC Electric Tariff Supplement to be effective 8/13/2018.

Filed Date: 7/13/18.

Accession Number: 20180713-5181.

Comments Due: 5 p.m. ET 8/3/18.

Docket Numbers: ER18-1917-001.

Applicants: Bowfin KeyCon Power, LLC.

Description: Tariff Amendment: Bowfin Power FERC Electric Tariff Supplement to be effective 8/13/2018.

Filed Date: 7/13/18.

Accession Number: 20180713-5183.

Comments Due: 5 p.m. ET 8/3/18.

Docket Numbers: ER18-2018-000.

Applicants: PacifiCorp.

Description: Notice of termination of Electric Rate Schedule (No. 378) of PacifiCorp.

Filed Date: 7/13/18.

Accession Number: 20180713-5191.

Comments Due: 5 p.m. ET 8/3/18.

Docket Numbers: ER18-2019-000.

Applicants: AEP Appalachian Transmission Company, Inc., AEP Indiana Michigan Transmission Company Inc., AEP Kentucky Transmission Company, Inc., AEP Ohio Transmission Company, Inc., AEP West Virginia Transmission Company, Inc., PJM Interconnection, L.L.C.

Description: § 205(d) Rate Filing: AEP Transco submits revisions to OATT, Schedule 1A to be effective 1/1/2017.

Filed Date: 7/16/18.

Accession Number: 20180716-5036.

Comments Due: 5 p.m. ET 8/6/18.

Docket Numbers: ER18-2020-000.

Applicants: Mid-Atlantic Interstate Transmission, LLC, PJM Interconnection, L.L.C.

Description: § 205(d) Rate Filing: MAIT submits IA SA No. 4578 and ECSA Nos. 4971, 4972, 5012 to be effective 9/14/2018.

Filed Date: 7/16/18.

Accession Number: 20180716-5057.

Comments Due: 5 p.m. ET 8/6/18.

Docket Numbers: ER18-2021-000.

Applicants: American Transmission Systems, Incorporated, PJM Interconnection, L.L.C.

Description: § 205(d) Rate Filing: ATSI submits OIA SA No. 2852 & CA SA No. 4715 to be effective 9/14/2018.

Filed Date: 7/16/18.

Accession Number: 20180716-5066.

Comments Due: 5 p.m. ET 8/6/18.

Docket Numbers: ER18-2022-000.

Applicants: New York Independent System Operator, Inc., Niagara Mohawk Power Corporation.

Description: § 205(d) Rate Filing: NYISO & National Grid—amended/restated LGIA no. 2356 with Arkwright to be effective 6/28/2018.

Filed Date: 7/16/18.

Accession Number: 20180716-5085.

Comments Due: 5 p.m. ET 8/6/18.

Docket Numbers: ER18-2023-000.

Applicants: Whiting Clean Energy, Inc.

Description: § 205(d) Rate Filing: Revised Market-Based Rate Tariff to be effective 9/15/2018.

Filed Date: 7/16/18.

Accession Number: 20180716-5096.

Comments Due: 5 p.m. ET 8/6/18.

Docket Numbers: ER18-2024-000.

Applicants: Midcontinent Independent System Operator, Inc.

Description: § 205(d) Rate Filing: 2018-07-16_SA 3084 St. Joseph Phase II-NIPSCO GIA 1st Rev (J351) to be effective 6/27/2018.

Filed Date: 7/16/18.

Accession Number: 20180716-5120.

Comments Due: 5 p.m. ET 8/6/18.

Docket Numbers: ER18-2025-000.

Applicants: Duke Energy Carolinas, LLC.

Description: § 205(d) Rate Filing: DEC-Central Electric Power Cooperative, Inc PPSA (RS-508) to be effective 9/1/2018.

Filed Date: 7/16/18.

Accession Number: 20180716-5124.

Comments Due: 5 p.m. ET 8/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2018.
Kimberly D. Bose,
Secretary.

[FR Doc. 2018-15563 Filed 7-19-18; 8:45 am]

BILLING CODE 6717-01-P